DEPARTMENT OF HEALTH AND HUMAN SERVICES

Public Meeting of the Presidential Commission for the Study of Bioethical Issues

AGENCY: Presidential Commission for the Study of Bioethical Issues, Office of the Secretary, Department of Health and Human Services.

ACTION: Notice of meeting.

SUMMARY: The Presidential Commission for the Study of Bioethical Issues will conduct its fourteenth meeting on August 19-20, 2013. At this meeting, the Bioethics Commission will continue to discuss the ethical implications of incidental findings. The Bioethics Commission will also discuss the BRAIN Initiative and ongoing work in neuroscience.

DATES: The meeting will take place Monday and Tuesday, August 19-20, 2013.

ADDRESSES: Smilow Center for Translational Research, Perelman School of Medicine at the University of Pennsylvania, Smilow Center for Translational Research Commons, 3400 Civic Center Boulevard, Building 421, Philadelphia, PA 19104.

FOR FURTHER INFORMATION CONTACT: Hillary Wicai Viers, Communications Director, Presidential Commission for the Study of Bioethical Issues, 1425 New York Avenue NW., Suite C-100, Washington, DC 20005. Telephone: 202-233-3960. Email: Hillary.Viers@bioethics.gov. Additional information may be obtained at www.bioethics.gov.

SUPPLEMENTARY INFORMATION: Pursuant to the Federal Advisory Committee Act of 1972, Public Law 92-463, 5 U.S.C. app. 2, notice is hereby given of the fourteenth meeting of the Presidential Commission for the Study of Bioethical Issues (the Bioethics Commission). The meeting will be held from 9 a.m. to approximately 5 p.m. on Monday, August 19, 2013, and from 9 a.m. to approximately 1 p.m. on Tuesday, August 20, 2013, in Philadelphia, PA. The meeting will be open to the public with attendance limited to space available. The meeting will also be webcast at www.bioethics.gov.

Under authority of Executive Order 13521, dated November 24, 2009, the President established the Bioethics Commission. The Bioethics Commission is an advisory panel of the nation's leaders in medicine, science, ethics, religion, law, and engineering. The Bioethics Commission advises the President on bioethical issues arising from advances in biomedicine and related areas of science and technology. The Bioethics Commission seeks to identify and promote policies and practices that ensure scientific research, health care delivery, and technological innovation are conducted in a socially and ethically responsible manner.

The main agenda item for the Bioethics Commission's fourteenth meeting is to discuss the ethical implications of incidental findings. The Bioethics Commission will also discuss the BRAIN Initiative and ongoing work in neuroscience.

The draft meeting agenda and other information about the Bioethics Commission, including information about access to the webcast, will be available at www.bioethics.gov.

The Bioethics Commission welcomes input from anyone wishing to provide public comment on any issue before it. Respectful debate of opposing views and active participation by citizens in public exchange of ideas enhances overall public understanding of the issues at hand and conclusions reached by the Bioethics Commission. The Bioethics Commission is particularly interested in receiving comments and questions during the meeting that are responsive to specific sessions. Written comments will be accepted at the registration desk and comment forms will be provided to members of the public in order to write down questions and comments for the Bioethics Commission as they arise. To accommodate as many individuals as possible, the time for each question or comment may be limited. If the number of individuals wishing to pose a question or make a comment is greater than can reasonably be accommodated during the scheduled meeting, the Bioethics Commission may make a random selection.

Written comments will also be accepted in advance of the meeting and are especially welcome. Please address written comments by email to info@bioethics.gov, or by mail to the following address: Public Commentary, Presidential Commission for the Study of Bioethical Issues, 1425 New York Ave. NW., Suite C-100, Washington, DC 20005. Comments will be publicly available, including any personally identifiable or confidential business information that they contain. Trade secrets should not be submitted.

Anyone planning to attend the meeting who needs special assistance, such as sign language interpretation or other reasonable accommodations, should notify Esther Yoo by telephone at (202) 233-3960, or email at Esther.Yoo@bioethics.gov in advance of the meeting. The Bioethics Commission will make every effort to accommodate persons who need special assistance.

Dated: July 10, 2013.
Lisa M. Lee,
Executive Director, Presidential Commission for the Study of Bioethical Issues.

[FR Doc. 2013-18157 Filed 7-30-13; 8:45 am]

BILLING CODE 4154-06-P